DEPARTMENT OF COMMERCE

National Oceanic and Atmospheric Administration

RIN 0648-XD523

Gulf of Mexico Fishery Management Council; Public Meeting

AGENCY: National Marine Fisheries Service (NMFS), National Oceanic and Atmospheric Administration (NOAA), Commerce.

ACTION: Notice; public meeting.

SUMMARY: The Gulf of Mexico Fishery Management Council (Council) will hold a public hearing via webinar for the Red Grouper Framework.

DATES: The webinar will begin at 6 p.m. (E.S.T.) on Thursday, October 16, 2014, and will conclude at the end of public testimony or no later than 9 p.m.

ADDRESSES: Meeting Address: The meeting will be held via webinar; https://www4.gotomeeting.com/register/680827519.

Council Address: Gulf of Mexico Fishery Management Council, 2203 North Lois Avenue, Suite 1100, Tampa, FL 33607.

FOR FURTHER INFORMATION CONTACT: Emily Muehlstein, Outreach Specialist, Gulf of Mexico Fishery Management Council; telephone: (813) 348-1630; fax: (813) 348-1711; email: emily.muehlstein@gulfcouncil.org.

SUPPLEMENTARY INFORMATION: The items of discussion in this session are:

Framework Action—Red Grouper Recreational Management Measures, Thursday, October 16, 2014, 6 p.m. Until 9 p.m. (E.S.T.)

Considers changes to recreational red grouper bag limits, bag limit reductions, and closed seasons to improve recreational fishing opportunities by extending the number of days in the fishing season and to achieve optimal yield.

—Adjourn—

This agenda may be modified as necessary to facilitate the discussion of pertinent materials up to and during the scheduled meeting.

Copies of the public hearing document can be obtained by calling (813) 348-1630 or visiting www.GulfCouncil.org.

The meeting will be webcast over the internet. A link to the webcast will be available on the Council's Web site, http://www.gulfcouncil.org.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: September 26, 2014.
Tracey L. Thompson,
Acting Deputy Director, Office of Sustainable Fisheries, National Marine Fisheries Service.

[FR Doc. 2014-23359 Filed 9-30-14; 8:45 am]

BILLING CODE 3510-22-P